DEPARTMENT OF THE TREASURY

Internal Revenue Service

Advisory Council to the Internal Revenue Service; Meeting

AGENCY: Internal Revenue Service (IRS), Treasury.

ACTION: Notice.

SUMMARY: The Internal Revenue Service Advisory Council (IRSAC) will hold a public meeting on Thursday, November 15, 2012.

FOR FURTHER INFORMATION CONTACT: Ms. Maria Jaramillo, Program Analyst, National Public Liaison, CL: NPL, 7559, 1111 Constitution Avenue NW., Washington, DC 20224. Telephone: 202-622-6725 (not a toll-free number). Email address: *public_liaison@irs.gov.

SUPPLEMENTARY INFORMATION: Notice is hereby given pursuant to section 10(a) (2) of the Federal Advisory Committee Act, 5 U.S.C. App. (1988), a public meeting of the IRSAC will be held on Thursday, November 15, 2012, from 9:00 a.m. to 1:15 p.m. at the Embassy Suites Hotel, 1250 22nd Street NW., Ballroom, Washington, DC 20037. Issues to be discussed include, but not limited to: The IRS Must Continue to Combat Refund Fraud and Identity Theft While Continuing to Balance Compliance and Tax Enforcement, Streamling the Audit Process, Managing Knowledge in the Issue Practice Groups and International Practice Networks, How Lien Withdrawal Processing should be made more efficient to the Benefit of the IRS and Taxpayers, Electronic Completion and Filing Should be Available For Form 1099 Miscellaneous, Encourage Taxpayers to Correct Form 1099 and W-2 Underreporting, Reporting of Dispositions of Capital Assets on Forms 1099-B (Proceeds from Broker and Barter Exchange Transactions), 8949 (Sales and Other Disposition of Capital Assets), and Schedule D (Capital Gains and Losses) (Form 1040), Increase BMF Electronic Filing, Guidance Respecting Obligations of Tax Practitioner Under Circular 230 and of Preparers Under the Internal Revenue Code and Practitioner Competency. Reports from the four IRSAC subgroups, Large Business and International, Small Business/Self-Employed, Wage & Investment, and the Office of Professional Responsibility will also be presented and discussed. Last minute agenda changes may preclude advanced notice. The meeting room accommodates approximately 80 people, IRSAC members and Internal Revenue Service officials inclusive. Due to limited seating, please call Maria Jaramillo to confirm your attendance. Ms. Jaramillo can be reached at 202-622-6725. Attendees are encouraged to arrive at least 30 minutes before the meeting begins. Should you wish the IRSAC to consider a written statement, please write to Internal Revenue Service, Office of National Public Liaison, CL:NPL:7559, 1111 Constitution Avenue NW., Washington, DC 20224, or email *public_liaison@irs.gov.

Dated: October 24, 2012.
Candice Cromling
Director, National Public Liaison.

[FR Doc. 2012-26696 Filed 10-30-12; 8:45 am]

BILLING CODE 4830-01-P